DEPARTMENT OF STATE

[Public Notice 6491]

Advisory Committee on International Economic Policy; Notice of Open Meeting

The Advisory Committee on International Economic Policy (ACIEP) will meet from 2 p.m. to 4 p.m. on Wednesday, September 30, 2009, at the U.S. Department of State, 2201 C Street NW., Room 1107, Washington, DC. The meeting will be hosted by the Acting Assistant Secretary of State for Economic, Energy, and Business Affairs David Nelson and Committee Chair Ted Kassinger. The ACIEP serves the U.S. Government in a solely advisory capacity, and provides advice concerning issues and challenges in international economic policy. The meeting will focus on a report from the Investment Subcommittee regarding its review of the U.S. Model Bilateral Investment Treaty.

This meeting is open to public participation, though seating is limited. Entry to the building is controlled; to obtain pre-clearance for entry, members of the public planning to attend should provide, by Friday, September 25, their name, professional affiliation, valid government-issued ID number (i.e., U.S. Government ID [agency], U.S. military ID [branch], passport [country], or drivers license [state]), date of birth, and citizenship to Ronelle Jackson by fax (202) 736-7522, e-mail (JacksonRS@state.gov), or telephone (202) 647-9204. One of the following forms of valid photo identification will be required for admission to the State Department building: U.S. driver's license, U.S. Government identification card, or any valid passport. Enter the Department of State from the C Street lobby. In view of escorting requirements, non-Government attendees should plan to arrive 15 minutes before the meeting begins. Requests for reasonable accommodation should be made to Ronelle Jackson prior to Tuesday, September 22nd. Requests made after that date will be considered, but might not be possible to fulfill.

For additional information, contact Senior Coordinator Nancy Smith-Nissley, Office of Economic Policy Analysis and Public Diplomacy, Bureau of Economic, Energy and Business Affairs, at (202) 647-1682 or Smith-NissleyN@state.gov.

Dated: September 10, 2009.
Sandra E. Clark,
Office Director, Office of Economic Policy Analysis and Public Diplomacy, Department of State.

[FR Doc. E9-22308 Filed 9-15-09; 8:45 am]

BILLING CODE 4710-07-P